ENVIRONMENTAL PROTECTION AGENCY

[EPA-HQ-OAR-2003-0073; FRL-9944-44-OEI]

Information Collection Request Submitted to OMB for Review and Approval; Comment Request; Distribution of Offsite Consequence Analysis Information Under Section 112(r)(7)(H) of the Clean Air Act (CAA), as Amended (Renewal)

AGENCY: Environmental Protection Agency (EPA).

ACTION: Notice.

SUMMARY: The Environmental Protection Agency has submitted an information collection request (ICR), “Distribution of Offsite Consequence Analysis Information under Section 112(r)(7)(H) of the Clean Air Act (CAA), as amended (Renewal)” (EPA ICR No. 1981.06, OMB Control No. 2050-0172) to the Office of Management and Budget (OMB) for review and approval in accordance with the Paperwork Reduction Act (44 U.S.C. 3501 et seq.). This is a proposed extension of the ICR, which is currently approved through June 30, 2016. Public comments were previously requested via the Federal Register (80 FR 79891) on December 23, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before May 25, 2016.

ADDRESSES: Submit your comments, referencing Docket ID No. EPA-HQ-OAR-2003-0073, to (1) EPA online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, Mail Code 5104A, Environmental Protection Agency, 1200 Pennsylvania Ave. NW., Washington, DC 20460; telephone number: (202) 564-8019; fax number: (202) 564-2625; email address: jacob.sicy@epa,gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: This ICR is the renewal of the ICR developed for the final rule, Accidental Release Prevention Requirements; Risk Management Programs Under the Clean Air Act Section 112(r)(7); Distribution of Off-Site Consequence Analysis Information. CAA section 112(r)(7) required EPA to promulgate reasonable regulations and appropriate guidance to provide for the prevention and detection of accidental releases and for responses to such releases. The regulations include requirements for submittal of a risk management plan (RMP) to EPA. The RMP includes information on offsite consequence analyses (OCA) as well as other elements of the risk management program.

On August 5, 1999, the President signed the Chemical Safety Information, Site Security, and Fuels Regulatory Relief Act (CSISSFRRA). The Act required the President to promulgate regulations on the distribution of OCA information (CAA section 112(r)(7)(H)(ii)). The President delegated to EPA and the Department of Justice (DOJ) the responsibility to promulgate regulations to govern the dissemination of OCA information to the public. The final rule was published on August 4, 2000 (65 FR 48108). The regulations imposed minimal information and recordkeeping requirements.

In accordance with the final rule, the federal government established 55 reading rooms at federal facilities geographically distributed across the United States and its territories. At these reading rooms, members of the public are able to read, but not mechanically copy or remove paper copies of OCA information for up to 10 stationary sources per calendar month. At these reading rooms, the members of the public may also have access to OCA information that the Local Emergency Planning Committee (LEPC) in whose jurisdiction the person lives or works is authorized to provide.

The final rule also authorizes and encourages state and local government officials to have access to OCA information for their official use, and to provide members of the public with read-only access to OCA sections of RMPs for sources located within the jurisdiction of the LEPC where the person lives or works and for any other stationary sources with vulnerability zones extending into the LEPC's jurisdiction.

EPA also established a Vulnerable Zone Indicator System (VZIS) that informs any person located in any state whether an address specified by that person might be within the vulnerable zone of one or more stationary sources, according to the data reported in RMPs. The VZIS is available on the Internet. Members of the public who do not have access to the Internet are able to obtain the same information by regular mail request to the EPA.

Form Numbers: None.

Respondents/affected entities: State and local agencies and the public.

Respondent's obligation to respond: Required to obtain or retain a benefit (40 CFR 1400).

Estimated number of respondents: 860 (total).

Frequency of response: On occasion.

Total estimated burden: 1,500 hours (per year). Burden is defined at 5 CFR 1320.03(b).

Total estimated cost: $46,865 (per year), includes $620 annualized capital or operation & maintenance costs.

Changes in the Estimates: There is a decrease of 15 hours in the total estimated respondent burden compared with the ICR currently approved by OMB. This decrease is due to a slight reduction in the number of state and local agencies requesting OCA information from EPA.

Courtney Kerwin,
Acting Director, Collection Strategies Division.

[FR Doc. 2016-09520 Filed 4-22-16; 8:45 am]

BILLING CODE 6560-50-P